DEPARTMENT OF THE INTERIOR

Fish and Wildlife Service

Notice of Intent To Prepare a Comprehensive Conservation Plan and Environmental Impact Statement for the Crab Orchard National Wildlife Refuge in Williamson, Jackson, and Union Counties, Illinois

AGENCY: Fish and Wildlife Service, Interior.

ACTION: Notice of intent to prepare a Comprehensive Conservation Plan and Environmental Impact Statement for the Crab Orchard National Wildlife Refuge.

SUMMARY: This notice advises the public that the U.S. Fish and Wildlife Service (Service) intends to gather information necessary to prepare a Comprehensive Conservation Plan (CCP) and Environmental Impact Statement (EIS) pursuant to the National Environmental Policy Act (NEPA) and its implementing regulations, for the Crab Orchard National Wildlife Refuge located in Williamson, Jackson, and Union Counties, Illinois.

The Service is furnishing this notice in compliance with the National Wildlife Refuge System Administration Act of 1966, as amended (16 U.S.C. 668dd et seq.), to achieve the following:

(1) Advise other agencies and the public of our intentions, and

(2) Obtain additional suggestions and information on the scope of alternative and impacts to be considered.

The Service solicited written comments and held three public open house scoping meetings and three focus group meetings during the scoping phase of the CCP development process. Comments received October 2000 to the present from this previous phase will be incorporated into the scoping for the EIS. The Service is inviting additional written comments on the scope of alternatives and impacts to be considered. In addition, the Service is inviting comments on archeological, historic, and traditional cultural sites in support of the National Historic Preservation Act.

DATES: Special mailings, newspaper articles, and other media announcements will inform people of the opportunities for written input. The public scoring process will continue until May 29, 2001. Written comments submitted by mail or email should be postmarked by that date to ensure consideration. Comments mailed after that date will be considered to the extent practical.

ADDRESSES: Address comments to: Refuge Manager, Crab Orchard National Wildlife Refuge, 8588 Route 148, Marion, IL 62959; or E-mail: conwr-ccp@fws.gov

FOR FURTHER INFORMATION CONTACT: Mr. Thomas Palmer, Planning Coordinator, Crab Orchard National Wildlife Refuge, U.S. Fish and Wildlife Service, 8588 Route 148, Marion, IL 62959-9970, telephone 618-997-3344, extension 319, or Mr. John Schomaker, Refuge Planning Specialist, U.S. Fish and Wildlife Service, RO/AP, BHW Federal Building, 1 Federal Drive, Ft. Snelling, MN 55111, telephone 612-713-5476; or E-mail: conwr-ccp@fws.gov

SUPPLEMENTARY INFORMATION: By Federal law, all lands within the National Wildlife Refuge System are to be managed in accordance with an approved CCP. The CCP guides management decisions and identifies refuge goals, long-range objectives, and strategies for achieving refuge purposes.

The CCP planning process will consider many elements, including wildlife and habitat management, habitat protection and acquisition, wilderness preservation, public recreational activities, industrial use, and cultural resource preservation. Public input into this planning process is essential. The CCP will provide other agencies and the public with a clear understanding of the desired conditions for the Refuge and how the Service will implement management strategies.

The Service solicited written comments and held three public open house scoping meetings and three focus group meetings during the scoping phase of the CCP development process. The Service previously notified the public (Federal Register/Vol. 65, No. 194/October 5, 2000) that following public scoping of issues, we would determine whether to prepare an EIS or an environmental assessment (EA). The Service has decided to prepare an EIS in accordance with procedures for implementing NEPA found in the Departmental manual 516 DM 6, Appendix 1.

The Service contracted for a cultural resources overview study in support of the comprehensive conservation plan. The professional study has identified known sites on the refuge. We are also asking the public to identify any cultural sites that are important to them.

Review of this project will be conducted in accordance with the requirements of the National Environmental Policy Act of 1969, as Amended (42 U.S.C. 4321 et seq.), NEPA Regulations (40 CFR parts 1500-1508), other appropriate Federal laws and regulations, and Service policies and procedures for compliance with those regulations.

We estimate that the draft environmental documents will be available in summer 2002.

Dated: April 11, 2001.
Marvin E. Moriarty,
Acting Regional Director.

[FR Doc. 01-10217 Filed 4-24-01; 8:45 am]

BILLING CODE 4310-55-M